DEPARTMENT OF COMMERCE

International Trade Administration

[A-357-812]

Honey From Argentina: Notice of Extension of Time Limit for Preliminary Results and Partial Rescission of Antidumping Duty Administrative Review

AGENCY: Import Administration, International Trade Administration, Department of Commerce.

SUMMARY: The Department of Commerce (the Department) is rescinding in part the administrative review of the antidumping duty order on honey from Argentina for the period of review (POR) of December 1, 2009, to November 30, 2010, with respect to ten companies. This rescission, in part, is based on the timely withdrawal of the request for review by the interested parties that requested the review. A complete list of the companies for which the administrative review is being rescinded is provided in the background section below. Additionally, the Department is extending the preliminary results of this administrative review to no later than December 1, 2011.

DATES: Effective Date: September 7, 2011.

FOR FURTHER INFORMATION CONTACT: John Drury or Angelica Mendoza, AD/CVD Operations, Office 7, Import Administration, International Trade Administration, U.S. Department of Commerce, 14th Street and Constitution Avenue, NW., Room 7850, Washington, DC 20230; telephone (202) 482-0195, or (202) 482-3019, respectively.

SUPPLEMENTARY INFORMATION:

Background

On December 10, 2001, the Department published the antidumping duty order on honey from Argentina. See Notice of Antidumping Duty Order: Honey From Argentina, 66 FR 63672 (December 10, 2001). On December 1, 2010, the Department published in the Federal Register its notice of opportunity to request an administrative review of this order. See Antidumping or Countervailing Duty Order, Finding, or Suspended Investigation; Opportunity To Request Administrative Review, 75 FR 74682 (December 1, 2010). In response, on December 29, 2010, Algodonera Avellaneda, S.A. (Algodonera) requested an administrative review of the antidumping duty order on honey from Argentina for the POR.

On December 30, 2010, Nexco S.A. (Nexco) also requested an administrative review of the same antidumping duty order for the POR.

On January 3, 2011, A.G.L.H. S.A., (AGLH) Compañía Inversora Platense S.A. (CIPSA), Industrial Haedo S.A. (Haedo), Mielar S.A./Compañía Apícola Argentina S.A. (Mielar), Patagonik S.A. (Patagonik), and TransHoney S.A. (TransHoney) also requested administrative reviews.

Also on January 3, 2011, the American Honey Producers Association and Sioux Honey Association (collectively, petitioners) requested an administrative review of the same antidumping duty order. Specifically, the petitioners requested that the Department conduct an administrative review of entries of subject merchandise made by 21 Argentine producers/exporters: AGLH, Algodonera, Nexco, Haedo, Mielar, CIPSA, Patagonik, and TransHoney were included in the petitioners' request for review, as well as HoneyMax S.A. (HoneyMax) and Alma Pura S.A. (Alma Pura).¹

¹ In addition to the companies listed above, petitioners also requested administrative reviews for Asociacion de Cooperativas Argentinas (ACA), Alimentos Naturales-Natural Foods Lavalle, Apidouro Comerical Exportadora E Importadora Ltda., Bomare S.A., Compania Apicola Argentina S.A., El Mana S.A., Interrupcion S.A., Miel Ceta SRL, Productos Afer S.A., Seabird Argentina S.A., and Villamora S.A.

On January 13, 2011, petitioners withdrew their request for an antidumping duty administrative review of honey from Argentina for the POR, for ACA. Petitioners noted that ACA is no longer subject to the antidumping duty order on honey from Argentina.

On January 28, 2011, the Department initiated a review of the 20 companies for which an administrative review was requested. See Initiation of Antidumping and Countervailing Duty Administrative Reviews, 76 FR 5137 (January 28, 2011) (Initiation Notice).

On February 2, 2011, Alma Pura submitted a letter certifying that, during the POR, it had no shipments, sales, or U.S. entries of subject merchandise. Alma Pura requested that the Department rescind the administrative review with respect to Alma Pura.

On February 7, 2011, the Department issued a memorandum to the file indicating its intention to limit the number of respondents selected for review and to select mandatory respondents based on U.S. Customs and Border Protection (CBP) data for U.S. imports of Argentine honey during the POR. The Department encouraged all interested parties to submit comments regarding the use of CBP entry data for respondent selection purposes. See Memorandum to the File through Richard Weible, Director, Office 7, AD/CVD Operations, regarding “Honey from Argentina—United States Customs and Border Protection Entry Data for Selection of Respondents for Individual Review,” dated February 7, 2011.

On February 24, 2011, the Department published a subsequent initiation notice which included corrections to the Initiation Notice with respect to honey from Argentina. See Initiation of Antidumping and Countervailing Duty Administrative Reviews and Request for Revocation in Part, 76 FR 10329 (February 24, 2011) (Second Initiation Notice).²

² In Nexco's review request, Nexco also requested revocation from the antidumping duty order on honey from Argentina (in part). However, Nexco's request for revocation in part from the order was inadvertently omitted from the Initiation Notice. Furthermore, certain company names were misspelled in the same Initiation Notice. All errors were corrected in the Second Initiation Notice.

On March 18, 2011, the Department selected the two producers/exporters with the largest export volume during the POR as mandatory respondents: HoneyMax and Nexco. See Memorandum to Richard O. Weible, “Administrative Review of the Antidumping Duty Order on Honey from Argentina: Respondent Selection Memorandum,” dated March 18, 2011. On March 18, 2011, the Department issued its antidumping questionnaire to the two mandatory respondents.

On April 8, 2011, and pursuant to 19 CFR 351.213(d)(1), the petitioners timely withdrew their request for review of the following companies: (1) Alimentos Naturales-Natural Foods Lavalle, (2) Alma Pura, (3) Apidouro Comercial Exportadora E Importadora Ltda., (4) Bomare S.A., (5) HoneyMax, (6) Interrupcion S.A., (7) Miel Ceta SRL, (8) Nexco, (9) Productos Afer S.A., and (10) Seabird Argentina S.A.

On April 8, 2011, and pursuant to 19 CFR 351.213(d)(1), Nexco withdrew its request for review and asked that the Department rescind the review in part.

Accordingly, the Department informed interested parties of its intent to rescind the review for the ten companies for which petitioners and Nexco withdrew requests for review, and to select CIPSA and TransHoney as mandatory respondents in place of Nexco and HoneyMax. See Memorandum to the Richard O. Weible, “Administrative Review of the Antidumping Duty Order on Honey from Argentina: Respondent Selection Memorandum,” dated May 9, 2011. On May 11, 2011, the Department issued its antidumping questionnaire to CIPSA and TransHoney.

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise covered by the order is currently classifiable under subheadings 0409.00.00, 1702.90.90, and 2106.90.99 of the Harmonized Tariff Schedule of the United States (HTSUS). Although the HTSUS subheadings are provided for convenience and customs purposes, the Department's written description of the merchandise under the order is dispositive.

Rescission, in Part, of Administrative Review

Pursuant to 19 CFR 351.213(d)(1), the Secretary will rescind an administrative review under this section, in whole or in part, if a party that requested a review withdraws the request within 90 days of the date of publication of notice of initiation of the requested review. Based on petitioners' and respondents' withdrawal of their requests of administrative review within the 90-day deadline, the Department is rescinding, in part, the antidumping duty administrative review on honey from Argentina for the period December 1, 2009 to November 30, 2010, with respect to the following companies: (1) Alimentos Naturales-Natural Foods Lavalle, (2) Alma Pura, (3) Apidouro Comercial Exportadora E Importadora Ltda., (4) Bomare S.A., (5) HoneyMax, (6) Interrupcion S.A., (7) Miel Ceta SRL, (8) Nexco, (9) Productos Afer S.A., and (10) Seabird Argentina S.A.

Extension of Time Limit for Preliminary Results

Section 751(a)(3)(A) of the Tariff Act of 1930, as amended (the Act), requires the Department to complete the preliminary results of an administrative review within 245 days after the last day of the anniversary month of an order for which a review is requested. However, if it is not practicable to complete the review within this time period, section 751(a)(3)(A) of the Act allows the Department to extend the time limit for the preliminary results to a maximum of 365 days after the last day of the anniversary month of an order for which a review is requested.

The Department has determined it is not practicable to complete this review within the statutory time limit due to the selection of two new mandatory respondents for this review after the requests for review for the original respondents were withdrawn. The Department requires time to analyze information submitted by the current respondents in this administrative review, and may need to request additional information. Accordingly, the Department is extending the time limit for completion of the preliminary results of this administrative review by 90 days (i.e., to December 1, 2011).

Notification to Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

Notification Regarding Administrative Protective Orders

This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This notice is issued and published in accordance with section 351.213(d)(4) of the Department's regulations and sections 751(a)(3)(A) and 777(i)(1) of the Act.

Dated: August 30, 2011.
Susan H. Kuhbach,
Acting Deputy Assistant Secretary for Antidumping and Countervailing Duty Operations.

[FR Doc. 2011-22865 Filed 9-6-11; 8:45 am]

BILLING CODE 3510-DS-P